DEPARTMENT OF HOMELAND SECURITY

Coast Guard

33 CFR Part 165

[Docket Number USCG-2025-0773]

RIN 1625-AA00

Safety Zone; Bridgeport Harbor, Bridgeport, CT

AGENCY: Coast Guard, DHS.

ACTION: Temporary final rule.

SUMMARY: The Coast Guard is establishing a temporary safety zone for the navigable waters of Bridgeport Harbor in the vicinity of the Bridgeport Harbor Station power plant demolition project site. The safety zone is needed to protect personnel, vessels, and the marine environment from potential hazards created by using explosives for the demolition process of three coal-fired power plant boilers. When enforced, entry of vessels or persons into this zone is prohibited unless specifically authorized by the Captain of the Port Long, Island Sound or a designated representative.

DATES: This rule is effective from September 28, 2025, through October 5, 2025. In the event that all demolition work using explosives is completed prior to October 5, we will provide notice via Broadcast to Mariners that it is no longer subject to enforcement.

ADDRESSES: To view available documents, go to https://www.regulations.gov and search for USCG-2025-0773.

FOR FURTHER INFORMATION CONTACT: If you have questions about this rule, call or email LT Joel Chapman, Sector Long Island Sound Waterways Management Division, U.S. Coast Guard; telephone 475-355-5336, email SECLISSPWMarineEvent@uscg.mil.

SUPPLEMENTARY INFORMATION:

I. Table of Abbreviations

CFR Code of Federal Regulations

COTP Captain of the Port, Long Island Sound

DHS Department of Homeland Security

FR Federal Register

NPRM Notice of proposed rulemaking

§ Section

U.S.C. United States Code

II. Background Information and Regulatory History

The Coast Guard was notified on August 5, 2025 that a contractor will be demolishing the three Bridgeport Harbor Station coal-fired power plant boilers in Bridgeport, CT. The three boilers are approximately 145 feet from the Bridgeport Harbor edge and are being demolished using explosives. The Captain of the Port, Long Island Sound (COTP) has determined that potential hazards associated with the use of explosives in this demolition project using are a safety concern for anyone within 1300 yards of the blast zone. Therefore, the COTP is issuing this rule under the authority in 46 U.S.C. 70034 to establish a safety zone to protect personnel, vessels, and the marine environment in the navigable waters within the safety zone.

The Coast Guard is issuing this rule without prior notice and comment. As is authorized by 5 U.S.C. 553(b)(B), the Coast Guard finds that good cause exists for not publishing a notice of proposed rulemaking (NPRM) with respect to this rule because it is impracticable to do so. There has been insufficient time between August 5, 2025, when Coast Guard was notified of the use explosives for the demolition project, and September 28, 2025, when the rule must be in place to protect personnel, vessels, and the marine environment, to solicit and respond to comments, and publish a final rule.

The Coast Guard also finds that, under 5 U.S.C. 553(d)(3), good cause exists for making this rule effective less than 30 days after publication in the FR because there is insufficient time to delay the rule's effective date if it is to serve its intended purpose.

III. Discussion of the Rule

This rule establishes a safety zone from 2 a.m. on September 28, 2025, through 11:59 p.m. on October 5, 2025. The safety zone will cover all navigable waters within a 1300-foot radius of the center point of Bridgeport Harbor Station boiler number 1, in approximate position 41°10′16.0″ N 73°11′02.0″ W expressed in Degrees (°) Minutes (′) Seconds (″) (DMS), based on North American Datum 1983 (NAD 83).

No vessel or person will be permitted to enter the safety zone without first obtaining permission from the COTP or a designated representative. To seek permission to enter, contact the COTP or the COTP's representative by VHF-Channel 16 or at 866-299-8031.

We anticipate only needing to deny permission to enter the safety zone during demolition operations of the Bridgeport Harbor Station coal-fired power plant boilers, which we expect will occur between 3 a.m. and 5 a.m. on September 28, 2025. That two-hour period should cover the time when workers are both preparing for and conducting demolition operations. Nevertheless, as this anticipated demolition period is subject to change, the Coast Guard is making the rule effective through 11:59 p.m. October 5, 2025. The Coast Guard will notify the public and local mariners of the enforcement status of this safety zone through Broadcast Notice to Mariners via marine Channel 16 (VHF-FM), both in advance of the commencement of demolition operations and after all demolition operations have ceased, unless there are other conditions present which may cause a hazard to navigation, as determined by the COTP.

IV. Regulatory Analyses

We developed this rule after considering numerous statutes and Executive orders related to rulemaking. Below we summarize our analyses based on a number of these statutes and Executive orders.

A. Impact on Small Entities

The regulatory flexibility analysis provisions of the Regulatory Flexibility Act of 1980, 5 U.S.C. 601-612, do not apply to rules that are not subject to notice and comment. Because the Coast Guard has, for good cause, waived the notice and comment requirement that would otherwise apply to this rulemaking, the Regulatory Flexibility Act's flexibility analysis provisions do not apply here.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements described in that Order.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule is a safety zone. It is categorically excluded from further review under paragraph L60(a) of Appendix A, Table 1 of DHS Instruction Manual 023-01-001-01, Rev. 1. A Record of Environmental Consideration supporting this determination is available in the docket.

List of Subjects in 33 CFR Part 165

Harbors, Marine safety, Navigation (water), Reporting and record keeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T01-0773 to read as follows:

§ 165.T01-0773 Safety Zone; Bridgeport Harbor, Bridgeport, CT.

(a) Location. The following area is a safety zone: All waters of the Bridgeport Harbor, from surface to bottom, in approximate position 41°10′16.0″ N 73°11′02.0″ W expressed in Degrees (°) Minutes (′) Seconds (″) (DMS) based on North American Datum 1983 (NAD 83).

(b) Definitions. As used in this section, designated representative means a Coast Guard Patrol Commander, including a Coast Guard coxswain, petty officer, or other officer operating a Coast Guard vessel and a Federal, State, and local officer designated by or assisting the Captain of the Port Long Island Sound (COTP) in the enforcement of the safety zone.

(c) Regulations. (1) Under the general safety zone regulations in subpart C of this part, you may not enter the safety zone described in paragraph (a) of this section unless authorized by the COTP or the COTP's designated representative.

(2) To seek permission to enter, contact the COTP or the COTP's representative by VHF-Channel 16 or at 866-299-8031. Those in the safety zone must comply with all lawful orders or directions given to them by the COTP or the COTP's designated representative.

(d) Effective and enforcement period. This section is effective from 2 a.m. September 28, 2025, through 11:59 p.m. October 5, 2025. We anticipate the demolition operations using explosives will occur between 3 a.m. and 5 a.m. September 28, 2025. For added safety, the COTP will make notification of the exact date and time in advance of the enforcement period for the safety zone in paragraph (a) of this section to the local maritime community through a Broadcast Notice to Mariners via marine channel 16 (VHF-FM). If the project is completed before October 5, 2025, enforcement of the safety zones will be suspended, and notice given via Broadcast Notice to Mariners.

Elisa M. Garrity,
Captain, U.S. Coast Guard, Captain of the Port, Sector Long Island Sound.

[FR Doc. 2025-18700 Filed 9-25-25; 8:45 am]

BILLING CODE 9110-04-P